DEPARTMENT OF ENERGY

Federal Energy Regulatory Commission

[Docket No. ER02-2414-001, et al.]

Florida Power & Light Company, et al.; Electric Rate and Corporate Filings

October 28, 2002.

The following filings have been made with the Commission. The filings are listed in ascending order within each docket classification.

1. Florida Power & Light Company

[Docket No. ER02-2414-001]

Take notice that on October 25, 2002, Florida Power & Light Company (FPL) filed, pursuant to the Commission's Order issued on September 25, 2002 in Docket No. ER02-2414-000, a compliance filing making the required changes to the Interconnection & Operation Agreement between FPL and Duke Energy Fort Pierce, LLC.

Comment Date: November 15, 2002.

2. Southern California Edison Company

[Docket No. ER03-82-000]

Take notice that on October 24, 2002, Southern California Edison Company (SCE) tendered for filing a Reliability Management System Agreement (RMS Agreement) between SCE and High Desert Power Trust (HDPT). SCE respectfully requests the RMS Agreement to become effective on December 24, 2002.

The RMS Agreement sets forth terms and conditions intended to maintain the reliable operation of the Western Interconnection through the generator's commitment to comply with certain reliability standards.

Copies of this filing were served upon the Public Utilities Commission of the State of California and HDPT.

Comment Date: November 14, 2002.

3. TRANSLink Development Company, LLC

[Docket No. ER03-83-000]

Take notice that on October 24, 2002, TRANSLink Development Company, LLC (TRANSLink) filed with the Commission rate schedules and attachments for service on the TRANSLink transmission system within the Midwest ISO region consistent with the guidance provided by the Commission's April 25, 2002 Order Authorizing Disposition of Jurisdictional Facilities and Participation in the Midwest ISO Regional Transmission Organization, 99 FERC ¶ 61,106.

TRANSLink filed at the Commission schedules for rates for Firm Point-To-Point Transmission Service, Non-Firm Point-To-Point Transmission Service and Network Integration Transmission Service on the TRANSLink network; and a schedule explaining the calculation and application of TRANSLink's Administrative Fee. TRANSLink also filed tariff attachments outlining TRANSLink's Emergency Redispatch Service and TRANSLink's Rate Calculation Process for Network Integration and Point-to-Point Transmission Service; setting forth retail access terms; containing definitions and general provisions that are specific to TRANSLink transactions pursuant to TRANSLink rate schedules to the MISO Tariff. TRANSLink requested that the rate schedules and attachments be accepted by the Commission with an effective date of December 23, 2002, and an operational date when TRANSLink commences commercial operations and begins providing transmission services, targeted for the third quarter of 2003. Comment date: November 14, 2002.

4. Southwest Power Pool, Inc.

[Docket No. ER03-84-000]

Take notice that on October 24, 2002, Southwest Power Pool, Inc. (SPP) submitted for filing executed service agreements for Firm Point-to-Point Transmission Service, Non-Firm Point-to-Point Transmission Service, and Loss Compensation Service with RWE Trading Americas, Inc. (Transmission Customer).

SPP seeks an effective date of September 26, 2002 for these service agreements.

The Transmission Customer was served with a copy of this filing.

Comment Date: November 14, 2002.

5. PJM Interconnection, L.L.C.

[Docket Nos. ER03-85-000]

Take notice that on October 24, 2002 PJM Interconnection, L.L.C. (PJM), submitted for filing revised pages to PJM's Open Access Transmission Tariff (PJM Tariff). PJM states that these revised tariff sheets contain the same (with certain minor exceptions, as explained in the filing) provisions regarding terms and conditions for interconnection of generation facilities as those that PJM filed in Docket No. ER02-1333-000 on March 18, 2002. The Commission accepted and suspended those tariff sheets by its order dated May 17, 2002, 99 FERC¶ 61,189 (2002), to become effective, subject to refund and subject to its final rule in Docket No. RM02-1-000, on November 1, 2002. It is necessary to re-file these tariff sheets, PJM states, to re-designate them in conformance with PJM's current effective Fifth Revised Volume No. 1 tariff, which has superceded the Fourth Revised Volume No. 1 that was in effect at the time of its March 18, 2002, filing. PJM proposes to make the enclosed tariff sheets effective on November 1, 2002, the end of the suspension period under the Commission's cited order of May 17, 2002, subject to the same conditions prescribed by that order.

Copies of this filing were served upon the official service list for Docket No. ER02-1333-000, all members of PJM, and the state electric utility regulatory commissions within the PJM region.

Comment Date: November 14, 2002.

6. GWF Energy LLC

[Docket No. EC03-6-000]

Take notice that on October 24, 2002, GWF Energy LLC tendered for filing an application under Section 203 of the Federal Power Act for approval of an intra-corporate reorganization.

Comment Date: November 14, 2002.

Standard Paragraph

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 02-28101 Filed 11-1-02; 8:45 am]

BILLING CODE 6717-01-P